DEPARTMENT OF ENERGY

Federal Energy Regulatory Commission

[Docket No. CP05-406-000]

Columbia Gas Transmission Corporation; Notice of Pending Release of Document

January 11, 2006.

Columbia Gas Transmission Corporation (Columbia) filed an application in this docket to abandon by sale certain natural gas facilities located in West Virginia and Kentucky. On September 27, 2005, Geoex, Inc. (Geoex), an independent producer/shipper, filed a timely motion to intervene in the Columbia proceeding stating that it would be adversely affected by the abandonment. On the same date, Geoex filed a three-page document in this docket that was stamped “Keep Confidential.” The document was entered into the Commission's eLibrary database as a non-public document with the accession number 20050929-0120.

The Commission's regulations require that a person seeking privileged treatment of information must file a written statement to justify such special treatment (18 CFR 388.112 (b)(1)). Geoex did not provide a written statement to support a claim of privilege. Further, the information contained in the document does not appear to qualify it as a Commission record exempt from public disclosure under 18 CFR 388.107. Accordingly, take notice that the Commission is considering releasing the Geoex document and that we are hereby giving Geoex the opportunity to comment on the release of such document within ten days from the issuance of this notice. See 18 CFR 388.112(d). Geoex may explain why the document should be deemed privileged or may request that the document be withdrawn from the record in this contested proceeding.

Magalie R. Salas,
Secretary.

[FR Doc. E6-546 Filed 1-18-06; 8:45 am]

BILLING CODE 6717-01-P